DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of July and August 2004.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-55,142; Riddle Fabrics, Inc., Kings Mountain, NC.

TA-W-55,220; Calypte Biomedical Corp., Alameda, CA.

TA-W-55,278; Agilent Technologies, Manufacturing Test Business Unit, Loveland, CO.

TA-W-55,254; Amplas, Inc., Green Bay, WI.

TA-W-55,167; Textron Fastening Systems, Ring Screw Div., Warren, MI.

TA-W-54,999; Markey Machinery Co., Inc., Seattle, WA.

TA-W-54,982; Fort Hill Lumber Co., including leased workers of Express Personnel Services/Brown & Dutton, Grand Ronde, OR.

The workers firm does not produce an article as required for certification under section 222 of the Trade Act of 1974.

TA-W-55,333; Gateway Country Store, Whitehall Mall, Whitehall, PA.

TA-W-55,184; GE Consumer Finance, Center of Recovery Excellence, Alpharetta, GA.

TA-W-55,310; EV Benefits Management, Inc., Data Entry Department, Columbus, OH.

TA-W-55,259; Willow Creek Apparel, Inc., Jonesville, NC.

TA-W-55,303; Correctional Billing Services, a div. of Evercom Systems, Inc., Selma, AL.

TA-W-55,238; Tracfone Wireless, Inc., Call Center Div., Miami, FL.

TA-W-55,215; Global Telephone Sales of North America, LLC, Los Angeles, CA.

The investigation revealed that criterion (a)(2)(A)(I.A) and a(2)(B)(II.A) (no employment decline) has not been met.

TA-W-55,342; TSI Logistics, leased workers at Brown & Williamson Corp., Macon, GA.

TA-W-55,168; Dell World Trade L.P., Round Rock, TX.

TA-W-55,300; Taylortec, Inc., Hammond, LA.

TA-W-55,144; The Boeing Aircraft Co., Integrated Defense Systems, Wichita, KS.

The investigation revealed that criterion (a)(2)(A)(I.B) (Sales or production, or both, did not decline) and (a)(2)(B)(II.B) (has shifted production to a county not under the free trade agreement with U.S.) have not been met.

TA-W-55,340; Ripplewood Phosporous U.S., LLC, Formerly Akzo Nobel Functional Chemical LLC, Gallipolis Ferry, WV.

The investigation revealed that criteria (2) has not been met. The workers firm (or subdivision) is not a supplier or downstream producer to trade-affected companies.

TA-W-55,244; Four Corporation, Boiler Shop, Green Bay, WI.

TA-W-55,317; Saber Industries, Inc., Nashville, TN.

TA-W-55,203; Karolina Polymers, Inc., Hickory, NC.

Affirmative Determinations for Worker Adjustment Assistance

The following certifications have been issued; the date following the company name and location of each determination references the impact date for all workers of such determination.

The following certifications have been issued. The requirements of (a)(2)(A) (increased imports) of section 222 have been met.

TA-W-55,349; Hardware Designers, Inc., Marienville, PA: July 26, 2003.

TA-W-55,114; M.A. Moslow & Brothers, Inc., Buffalo, NY: May 20, 2003.

TA-W-55,162 & A; Vaughan-Bassett Furniture Co., Inc., including on-site leased workers from Norman Williams and Associates, Sumter, SC and Corporate Headquarters, Galax, VA: June 29, 2003.

TA-W-55,185; Wash N Wear, Gallatin, TN: June 30, 2003.

TA-W-55,286; Conex Cable, Inc., including lased workers at Volt Services, Dublin, CA.

TA-W-55,249; Briar Knitting, Inc., Berwick, PA: July 13, 2003.

TA-W-55,116; Southern New Jersey Steel Co., Inc., Vineland, NJ: June 21, 2003.

TA-W-55,115 & A: Weyerhaeuser Co., Portland, OR and Beaverton, OR: June 20, 2003.

TA-W-55,169; Ciprico, Inc., Plymouth, MN: June 29, 2003.

TA-W-55,229 &A; APA Optics, Inc., Blaine, MN and Aberdeen, SD: July 7, 2003.

TA-W-55,208; Tecumseh Compressor Co., Tecumseh Div., Tecumseh, MI: July 2, 2003.

TA-W-55,272; RBX Industries, Inc., Corp. Headquarters, Roanoke, VA: June 28, 2003.

TA-W-55,113; Veltri Metal Products Liquidating, Inc., New Baltimore Plant, New Baltimore, MI: May 20, 2003.

TA-W-55,308 & A; Candor Hosiery Mills, Inc., Troy, NC and Biscoe, NC: July 22, 2003.

TA-W-55,294; GE Electric, Consumer and Industrial Div., Ravenna Lamp Plant, Ravenna, OH: July 16, 2003.

The following certifications have been issued. The requirements of (a)(2)(B) (shift in production) of section 222 have been met.

TA-W-55,260; Kincaid Furniture Company, Inc., Plant 5, Lenoir, NC: July 14, 2003.

TA-W-55,332; Holman Cooking Equipment, Inc., a subsidiary of Star Manufacturing, Saco, ME: July 28, 2003.

TA-W-55,224; Depuy Orthopedics, Inc., Depuy Casting Div., a div. of Johnson and Johnson, North Brunswick, NJ: June 22, 2003.

TA-W-55,264; Leica Geosystems GR, LLC, a div. of Leica Geosystems, Inc., Grand Rapids, MI: July 15, 2003.

TA-W-55,283; Silver Capital Corp., d/b/a GTC International, including on-site leased workers from Edinfinite Solutions, Bedford Park, IL: July 13, 2003.

TA-W-55,313; C and D Die Casting Co., Inc., Chatsworth, CA: July 22, 2003.

TA-W-55,330; Jockey International, Inc., Maysville, KY: July 26, 2003.

TA-W-55,227; Robert Bosch Corp., Automotive Technology—Chassis Div., including leased workers at Olsten Staffing, Sumter, SC: July 2, 2003.

TA-W-55,327; Loger Industries, Inc., including leased workers of Advanced Placement Services, Inc., Lake City, PA: July 27, 2003.

TA-W-55,277; Carhartt, Inc., Madisonville Sewing Facility, Madisonville, KY: July 16, 2003.

TA-W-55,237; Pacific Coast Lighting, Chatsworth, CA: July 9, 2003.

TA-W-55,194; Dyer Fabrics, Inc., Dyersburg, TN: December 21, 2003.

TA-W-55,273; Am-Safe Commercial Products, a subsidiary of Marmon Group, including on-site leased workers from Accountants, Inc., Accoutemps, Checkmate Staffing, CHRC Creative Hem Resources, Encore Staffing, NESCO Services, Staffing Specialists, Superior Staffing Services, Volt Services and VSP Search, Tempe, AZ: July 16, 2003.

TA-W-55,192; Scientific Plastics, LTD, a div. of Astra Products, LTD, Miami Lakes, FL: July 2, 2003.

TA-W-55,189; Powerbrace Corp., a div. of Miner Enterprises, Inc., Kenosha, WI: June 30, 2003.

TA-W-55,268; Takane U.S.A., Inc., Torrance, CA: July 14, 2003.

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

The Department has determined that criterion (2) of section 246 has not been met. Workers at the firm possess skills that are easily transferable.

TA-W-55,294; GE Electric, Consumer & Industrial Div., Ravenna Lamp Plant, Ravenna, OH.

TA-W-55,308 & A; Candor Hosiery Mills, Inc., Troy, NC and Biscoe, NC.

TA-W-55,268; Takane U.S.A., Inc., Torrance, CA.

TA-W-55,272; RBX Industries, Inc., Corporate Headquarters, Roanoke, VA.

TA-W-55,113; Veltri Metal Products Liquidating, Inc., New Baltimore Plant, New Baltimore, MI.

TA-W-55,189; Powerbrace Corp., a div. of Miner Enterprises, Inc., Kenosha, WI.

TA-W-55,208; Tecumseh Compressor Co., Tecumseh Div., Tecumseh, MI.

TA-W-55,229 & A; APA Optics, Inc., Blaine, MN and Aberdeen, SD.

TA-W-55,192; Scientific Plastics, LTD, a div. of Astra Products, LTD, Miami Lakes, FL.

TA-W-455,169; Ciprico, Inc., Plymouth, MN.

Since the workers are denied eligibility to apply for TAA, the workers cannot be certified eligible for ATAA.

TA-W-55,215; Global Telephone Sales of North America, LLC, Los Angeles, CA.

TA-W-55,203; Karolina Polymers, Inc., Hickory, NC.

TA-W-55,238; Tracfone Wireless, Inc., Call Center Division, Miami, FL.

TA-W-54,982; Fort Hill Lumber Company, including leased workers of Express Personnel Services/Brown & Dutton, Grand Ronde, OR.

TA-W-54,999; Markey Machinery Company, Inc., Seattle, WA.

TA-W-55,303; Correctional Billing Services, a div. of Evercom Systems, Inc., Selma, AL.

TA-W-55,144; The Boeing Aircraft Company, Integrated Defense Systems, Wichita, KS.

TA-W-55,259; Willow Creek Apparel, Inc., Jonesville, NC.

TA-W-55,300; Taylortec, Inc., Hammond, LA.

TA-W-55,310; EV Benefits Management, Inc., Data Entry Department, Columbus, OH.

TA-W-55,167; Textron Fastening Systems, Ring Screw Div., Warren, MI.

TA-W-55,340; Ripplewood Phosporous U.S., LLC, Formerly Akzo Nobel Functional Chemical LLC, Gallipolis Ferry, WV.

TA-W-55,254; Amplas, Inc., Green Bay, WI.

TA-W-55,278; Agilent Technologies, Manufacturing Test Business Unit, Loveland, CO.

TA-W-55,317; Saber Industries, Inc., Nashville, TN.

TA-W-55,220; Calypte Biomedical Corp., Alameda, CA.

TA-W-55,184; GE Consumer Finance, Center of Recovery Excellence, Alpharetta, GA.

Affirmative Determinations for Alternative Trade Ajdustment Assistance

In order for the Division of Trade Adjustment Assistance to issue a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-55,162 & A; Vaughan-Bassett Furniture Co., Inc., including on-site leased workers from Norman Williams and Associates, Sumter, SC and Corporate Headquarters, Galax, VA: June 29, 2003.

TA-W-55,185; Wash N Wear, Gallatin, TN: June 30, 2003.

TA-W-55,286; Conex Cable, Inc., including leased Workers at Volt Services, Dublin, CA: July 16, 2003.

TA-W-55,249; Briar Knitting, Inc., Berwick, PA:July 13, 2003.

TA-W-55,116; Southern New Jersey Steel Co., Inc., Vineland, NJ: June 21, 2003.

TA-W-55,115 & A; Weyerhaeuser Co., Portland, OR and Beaverton, OR: June 20, 2003.

TA-W-55,264; Leica Geosystems GR, LLC, a div. of Leica Geosystems, Inc., Grand Rapids, MI: July 15, 2003.

TA-W-55,283; Silver Capital Corp., d/b/a GTC International, including on-site leased workers from Edinfinite Solutions, Bedford Park, IL: July 13, 2003.

TA-W-55,313; C and D Die Casting Company, Inc., Chatsworth, CA: July 22, 2003.

TA-W-55,330; Jockey International, Inc., Maysville, KY: July 26, 2003.

TA-W-55,227; Robert Bosch Corp., Automotive Technology—Chassis Div., including leased workers at Olsten Staffing, Sumter, SC: July 2, 2003.

TA-W-55,327; Loger Industries, Inc., including leased workers of Advanced Placement Services, Inc., Lake City, PA: July 27, 2003.

TA-W-55,277; Carhartt, Inc., Madisonville Sewing Facility, Madisonville, KY: July 16, 2003.

TA-W-55,237; Pacific Coast Lighting, Chatsworth, CA: July 9, 2003.

TA-W-54,194; Dyer Fabrics, Inc. Dyersburg, TN: December 21, 2003.

TA-W-55,273; Am-Safe Commercial Products, a subsidiary of Marmon Group, including on-site leased workers from Accountants, Inc., Accountemps, Checkmate Staffing, CHRC Creative Human Resources, Encore Staffing, NESCO Services, Staffing Specialists, Superior Staffing Services, Volt Services and VSP Search, Tempe, AZ: July 16, 2003.

I hereby certify that the aforementioned determinations were issued during the months of July and August 2004. Copies of these determinations are available for inspection in Room C-5311, U.S. Department of Labor, 200 Constitution Avenue, NW., Washington, DC 20210 during normal business hours or will be mailed to persons who write to the above address.

Dated: August 13, 2004.
Timothy Sullivan,
Director, Division of Trade Adjustment Assistance.

[FR Doc. 04-19093 Filed 8-19-04; 8:45 am]

BILLING CODE 4510-30-P